DEPARTMENT OF HOMELAND SECURITY

U.S. Customs and Border Protection

Automated Commercial Environment (ACE) Export Manifest for Air Cargo Test: Expansion of Test To Include Additional Participants, Modification of Required Data Elements, and Extension of Test

AGENCY: U.S. Customs and Border Protection, Department of Homeland Security.

ACTION: General notice.

SUMMARY: This notice announces that CBP is modifying the U.S. Customs and Border Protection's (CBP's) Automated Commercial Environment (ACE) Export Manifest for Air Cargo Test, a National Customs Automation Program (NCAP) test concerning ACE export manifest capability, by making certain of the export manifest data elements optional. CBP is also extending the test and will be accepting additional applications for participation in this modified test from all parties meeting the eligibility requirements.

DATES: The modifications of the ACE Export Manifest for Air Cargo Test set forth in this document are effective August 14, 2017. The modified test will run until August 10, 2018. Applications from additional participants may be submitted at any time. Current test participants do not need to reapply. Comments concerning this notice and all aspects of the test may be submitted at any time during the test period to the email address below.

ADDRESSES: Applications to participate in the ACE Export Manifest for Air Cargo Test must be submitted via email to CBP Export Manifest at cbpexportmanifest@cbp.dhs.gov. In the subject line of the email, please use “ACE Export Manifest for Air Cargo Test Application”. Written comments concerning program, policy, and technical issues may also be submitted via email to CBP Export Manifest at cbpexportmanifest@cbp.dhs.gov. In the subject line of the email, please use “Comment on ACE Export Manifest for Air Cargo Test”.

FOR FURTHER INFORMATION CONTACT: Robert C. Rawls, Outbound Enforcement and Policy Branch, Office of Field Operations, U.S. Customs and Border Protection, via email at cbpexportmanifest@cbp.dhs.gov.

SUPPLEMENTARY INFORMATION:

Background

The ACE Export Manifest for Air Cargo Test is a voluntary test in which participants agree to submit export manifest data to CBP electronically, at least 4 hours prior to loading of the cargo onto the aircraft in preparation for departure from the United States. The ACE Export Manifest for Air Cargo Test is authorized under § 101.9(b) of title 19 of the Code of Federal Regulations (19 CFR 101.9(b)), which provides for the testing of NCAP programs or procedures.

CBP announced the procedures and criteria related to participation in the ACE Export Manifest for Air Cargo Test in a notice published in the Federal Register on July 10, 2015 (80 FR 39790). This test was originally set to run for approximately two years. For further details on the background and procedures regarding the test, please refer to the July 10, 2015 notice.

Expansion of Test to Additional Participants

In the July 10, 2015 notice announcing the initial phase of the ACE Export Manifest for Air Cargo Test, CBP stated that participation in the test was limited to nine stakeholders composed of air carriers and freight forwarders who met the eligibility requirements. This notice announces that the ACE Export Manifest for Air Cargo Test is now open to all eligible applicants. CBP will endeavor to accept all new eligible applicants on a first come first serve basis; however, if the number of eligible applicants exceeds CBP's administrative capabilities, CBP reserves the right to select eligible participants in order to achieve a diverse participant pool.

Eligibility Requirements

Except for the expansion to additional participants, the eligibility requirements for the ACE Export Manifest for Air Cargo Test set forth in the July 10, 2015 notice are not changing. For clarity and convenience to the public, CBP sets forth below the eligibility requirements for participation in the test.

Participation in the ACE Export Manifest for Air Cargo Test is limited to those parties able to electronically transmit manifest data in the identified acceptable format. Prospective ACE Export Manifest for Air Cargo Test participants must have the technical capability to electronically submit data to CBP and receive response message sets via Cargo-IMP, AIR CAMIR, IATA XML, or Unified XML,¹ and must successfully complete certification testing with their client representative. Once parties have applied to participate, they must complete a test phase to determine if the data transmission is in the required readable format. Applicants will be notified once they have successfully completed testing and are permitted to participate fully in the test. In selecting participants, CBP will take into consideration the order in which the applications are received.

¹ Unified XML was not yet functional at the time of the original Automated Commercial Environment (ACE) Export Manifest for Air Cargo Test. It is now fully functional and available for use.

There are no restrictions with regard to the participant's organization size, location or commodity type for participation in the test.

Modification of the Filing Condition of Certain Data Elements

One of the main purposes of the ACE Export Manifest for Air Cargo Test is to test the feasibility of requiring the manifest information to be filed electronically in ACE within a specified time before the cargo is loaded on the aircraft. Another purpose is to test the functionality regarding the filing of export manifest data for air cargo electronically to ACE within a specified time before the cargo is loaded on the aircraft. Under the current regulatory requirements, advance electronic filing of export data is generally not required. In most cases, the aircraft commander or agent must file a general declaration on CBP Form 7507 pertaining to the outbound flight. Also, the aircraft commander or agent must file the air cargo manifest, CBP Form 7509, with CBP at each port where export cargo is loaded on the aircraft. Additionally, the airline must file the complete air cargo manifest generally within 4 days after departure of the aircraft. See 19 CFR 122.72, 19 CFR 122.73, 19 CFR 122.74, 19 CFR 122.75, and 19 CFR 192.14. The U.S. Principal Party in Interest (USPPI) must file any required Electronic Export Information (EEI) for the cargo on the aircraft. See 15 CFR part 30. (For additional details about filing requirements for the aircraft commander and USPPI, please see the July 10, 2015 notice.) The data and the results of the ACE Export Manifest for Air Cargo Test will aid CBP in determining which parties are the best source of the export manifest data and when the data is available to be submitted to CBP.

CBP has been consulting with the Commercial Customs Operations Advisory Committee (COAC) to address ongoing issues concerning the quality, accessibility, and timeliness of export manifest data received during the test. Through this process, the COAC advised CBP that certain data elements currently required under the test may not be available to the party submitting the export manifest data to CBP 4 hours prior to loading the cargo on the aircraft in preparation for departure from the United States and urged CBP to make those data elements optional. For some, such as the in-bond number, COAC has suggested that the information may not be necessary because it is available to CBP through other electronic systems.

After evaluating the initial phase of the ACE Export Manifest for Air Cargo Test and considering the COAC's comments, CBP has determined that, in order to better test the functionality and feasibility of submitting the specified export data 4 hours in advance, five of the mandatory or conditional data elements should be changed to optional. This will enable participants to submit the optional information when and if it is available. These data elements are listed below. (Data elements which are “mandatory” must be provided to CBP for every shipment. Data elements which are “conditional” must be provided to CBP only if the particular information pertains to the cargo. Data elements which are “optional” may be provided to CBP but are not required).

• Number of pieces/unit of measure (Data Element #11)

• Number of house air waybills (Data Element #13)

• Split air waybill indicator (Data Element #18)

• In-bond number (Data Element #21)

• Mode of transportation (Data Element #22)

The remaining data elements under the ACE Export Manifest for Air Cargo Test continue to be mandatory, conditional or optional as provided in the July 10, 2015 notice. The full list of data elements is set forth below. Unless otherwise noted, the data elements are mandatory.

(1) Exporting Carrier (As reflected in the July 10, 2015 notice, CBP finds this term to be clearer than the term “Owner/Operator” used on CBP Form 7509.)

(2) Marks of nationality and registration

(3) Flight number

(4) Port of lading

(5) Port of unlading

(6) Scheduled date of departure (As reflected in the July 10, 2015 notice, CBP finds this term to be clearer than the term “Date” used on CBP Form 7509.)

(7) Consolidator (conditional)

(8) De-consolidator (conditional)

(9) Air waybill type (Master, House, Simple or Sub)

(10) Air waybill number

(11) Number of pieces and unit of measure (optional)

(12) Weight (kg./lb.)

(13) Number of house air waybills (optional)

(14) Shipper name and address

(15) Consignee name and address

(16) Cargo description (As reflected in the July 10, 2015 notice, CBP finds this term to be clearer than the term “Nature of goods” used on CBP Form 7509.)

(17) AES Internal Transaction Number (ITN) or AES Exemption Statement/Exception Classification (per shipment)

(18) Split air waybill indicator (optional)

(19) Hazmat indicator (Yes/No)

(20) UN Number (conditional) (If the hazmat indicator is yes, the four-digit UN (United Nations) Number assigned to the hazardous material must be provided.)

(21) In-bond number (optional)

(22) Mode of transportation (Air, containerized or Air, non-containerized) (optional)

If, after the conclusion of the ACE Export Manifest for Air Cargo Test, CBP decides to conduct rulemaking to amend the regulations concerning the filing of the air export cargo manifest, CBP will reevaluate the filing conditions for each data element to determine the feasibility of requiring that data element to be filed electronically in ACE within a specified time before the cargo is loaded on the aircraft.

Extension of the Test

To continue further evaluation of the ACE Export Manifest for Air Cargo Test, CBP is extending the test for an additional year. The expanded and modified test will run until August 10, 2018.

Applicability of Initial Test Notice

Unless explicitly changed by this or subsequent notices published in the Federal Register, all other aspects of the initial test announced in the July 10, 2015 notice, including test procedures and conditions, the application process, and the waiver of certain regulatory requirements, remain in effect.

Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Dated: August 8, 2017.
Todd C. Owen,
Executive Assistant Commissioner, Office of Field Operations.

[FR Doc. 2017-17080 Filed 8-11-17; 8:45 am]

BILLING CODE 9111-14-P